DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: October 30, 2015.
Roy E. Wright,
Deputy Associate Administrator for Insurance and Mitigation, Department of Homeland Security, Federal Emergency Management Agency.

State and county | Location and case No. | Chief executive officer of community | Community map repository | Effective date of modification | Community No.
Colorado: | Arapahoe (FEMA Docket No.: B-1526) | City of Englewood (15-08-0562P). | The Honorable Randy Penn Mayor, City of Englewood, 1000 Englewood Parkway, Englewood, CO 80110 | Engineering Services Department, 3400 South Elati Street, Englewood, CO 80110 | September 25, 2015 | 085074
Denver (FEMA Docket No.: B-1526) | City and County of Denver (15-08-0562P) | The Honorable Michael B. Hancock, Mayor, City and County of Denver, 1437 Bannock Street, Suite 350 Denver, CO 80202 | City and County of Denver Department of Public Works, 201 West Colfax Avenue, Denver, CO 80202 | September 25, 2015 | 080046
Douglas (FEMA Docket No.: B-1526) | Unincorporated areas of Douglas County (14-08-1222P) | The Honorable Jill Repella, Chair, Douglas County Board of Commissioners, 100 3rd Street, Castle Rock, CO 80104 | Douglas County Department of Public Works, 100 3rd Street, Castle Rock, CO 80104 | September 18, 2015 | 080049
Florida:
Orange (FEMA Docket No.: B-1526) | City of Orlando (15-04-4309X) | The Honorable Buddy Dyer, Mayor, City of Orlando, 400 South Orange Avenue, Orlando, FL 32802 | Stormwater Management Department, 4200 South John Young Parkway, Orlando, FL 32839 | October 5, 2015 | 120186
Orange (FEMA Docket No.: B-1526) | Unincorporated areas of Orange County (15-04-4309X) | The Honorable Teresa Jacobs, Mayor, Orange County, 201 South Rosalind Avenue, 5th Floor Orlando, FL 32801 | Orange County Permitting Services Division, 400 South Orange Avenue, Orlando, FL 32801 | October 5, 2015 | 120179
New York:
Niagara (FEMA Docket No.: B-1526) | Town of Niagara (15-02-0453P) | The Honorable Lee S. Wallace, Supervisor, Town of Niagara, 7105 Lockport Road, Niagara Falls, NY 14305 | Town Hall, 7105 Lockport Road, Niagara Falls, NY 14305 | October 16, 2015 | 360507
Niagara (FEMA Docket No.: B-1526) | Town of Wheatfield (15-02-0453P) | The Honorable Robert B. Cliffe, Supervisor, Town of Wheatfield, 2800 Church Road, Wheatfield, NY 14120 | Town Hall, 2800 Church Road, Wheatfield, NY 14120 | October 16, 2015 | 360513
Suffolk (FEMA Docket No.: B-1526) | Town of Southampton (15-02-0499P) | The Honorable Anna Throne-Holst, Supervisor, Town of Southampton, 116 Hampton Road Southampton, NY 11968 | Building Department, 116 Hampton Road, Southampton, NY 11968 | October 16, 2015 | 365342
Texas:
Bell (FEMA Docket No.: B-1526) | City of Temple (14-06-3184P) | The Honorable Danny Dunn, Mayor, City of Temple, 2 North Main Street, Suite 103, Temple, TX 76501 | Planning Department, 2 North Main Street, Temple, TX 76501 | September 25, 2015 | 480034
Bexar (FEMA Docket No.: B-1526) | City of San Antonio (14-06-4529P) | The Honorable Ivy R. Taylor, Mayor, City of San Antonio, P.O. Box 839966, San Antonio, TX 78283 | Storm Water Division, 1901 South Alamo Street, 2nd Floor, San Antonio, TX 78204 | October 2, 2015 | 480045
Bexar (FEMA Docket No.: B-1526) | City of San Antonio (15-06-0641P) | The Honorable Ivy R. Taylor, Mayor, City of San Antonio, P.O. Box 839966, San Antonio, TX 78283 | Storm Water Division, 1901 South Alamo Street, 2nd Floor, San Antonio, TX 78204 | September 22, 2015 | 480045
Brazoria (FEMA Docket No.: B-1526) | City of Iowa Colony (15-06-1613P) | The Honorable Robert Wall, Mayor, City of Iowa Colony, 12003 County Road, 65 Iowa Colony, TX 77583 | City Hall, 12003 County Road, 65 Iowa Colony, TX 77583 | September 28, 2015 | 481071
Brazoria (FEMA Docket No.: B-1526) | City of Manvel (15-06-1613P) | The Honorable Delores Martin, Mayor, City of Manvel, 20025 Highway 6, Manvel, TX 77578 | City Hall, 20025 Highway 6, Manvel, TX 77578 | September 28, 2015 | 480076
Brazoria (FEMA Docket No.: B-1526) | Unincorporated areas of Brazoria County (15-06-1613P) | The Honorable Matt Sebesta, Jr., Brazoria County Judge ,111 East Locust Street, Suite 102, Angleton, TX 77515 | Brazoria County Floodplain Department, 111 East Locust Street, Building A-29, Angleton, TX 77515 | September 28, 2015 | 485458
Denton (FEMA Docket No.: B-1526) | Unincorporated areas of Denton County (15-06-2283X) | The Honorable Mary Horn, Denton County Judge, 110 West Hickory Street, 2nd Floor, Denton, TX 76201 | Denton County Government Center, 1505 East McKinney Street, Suite 175, Denton, TX 76209 | October 5, 2015 | 480774
El Paso (FEMA Docket No.: B-1526) | Town of Anthony (15-06-0836P) | The Honorable Luis Vela, Mayor, Town of Anthony, 401 Wildcat Drive Anthony, TX 79281 | Town Hall, 401 Wildcat Drive, Anthony, TX 79281 | September 15, 2015 | 480804
Fort Bend (FEMA Docket No.: B-1509) | Pecan Grove Municipal Utility District (15-06-0769P) | Mr. Chad Howard, President, Pecan Grove Municipal Utility District, 3200 Southwest Freeway, Suite 2600, Houston, TX 77027 | Pecan Grove Municipal Utility District, Jones and Carter Engineering, 6335 Gulfton Drive, Suite 200 Houston, TX 77081 | July 9, 2015 | 481486
Fort Bend (FEMA Docket No.: B-1509) | City of Richmond (15-06-0769P) | The Honorable Evalyn W. Moore, Mayor, City of Richmond, 402 Morton Street, Richmond, TX 77469 | City Hall, 402 Morton Street, Richmond, TX 77469 | July 9, 2015 | 480231
Fort Bend (FEMA Docket No.: B-1509) | Unincorporated areas of Fort Bend County (15-06-0769P) | The Honorable Robert Hebert, Fort Bend County Judge, 401 Jackson Street, Richmond, TX 77469 | Fort Bend County Engineering Department, 301 Jackson Street, Richmond, TX 77469 | July 9, 2015 | 480228
Harris (FEMA Docket No.: B-1526) | City of Houston (15-06-1456P) | The Honorable Annise D. Parker, Mayor, City of Houston, P.O. Box 1562, Houston, TX 77251 | Office of Emergency Management, 5320 North Shepherd Drive, Houston, TX 77091 | September 25, 2015 | 480296
Hunt (FEMA Docket No.: B-1534) | City of Greenville (14-06-4302P) | The Honorable Steve Reid, Mayor, City of Greenville, P.O. Box 1049, Greenville, TX 75403 | Public Works Department, 2315 Johnson Street, Greenville, TX 75401 | July 8, 2015 | 485473
Tarrant (FEMA Docket No.: B-1534) | City of Fort Worth (14-06-4046P) | The Honorable Betsy Price, Mayor, City of Fort Worth, 1000 Throckmorton Street, Fort Worth, TX 76102 | City Hall, 1000 Throckmorton Street, Fort Worth, TX 76102 | September 15, 2015 | 480596
Tarrant (FEMA Docket No.: B-1534) | City of Fort Worth (15-06-0295P) | The Honorable Betsy Price, Mayor, City of Fort Worth, 1000 Throckmorton Street, Fort Worth, TX 76102 | City Hall, 1000 Throckmorton Street, Fort Worth, TX 76102 | August 25, 2015 | 480596
Virginia: Independent City (FEMA Docket No.: B-1538) | City of Fairfax (14-03-2004P) | The Honorable Robert Sisson, Manager, City of Fairfax, 10455 Armstrong Street, Room 316, Fairfax, VA 22030 | Public Works Department, 10455 Armstrong Street, Room 200, Fairfax, VA 22030 | August 25, 2015 | 515524

[FR Doc. 2015-30017 Filed 11-24-15; 8:45 am]

BILLING CODE 9110-12-P